INTERNATIONAL TRADE COMMISSION

[USITC SE-03-026]

Sunshine Act Meeting

AGENCY HOLDING THE MEETING: United States International Trade Commission.

TIME AND DATE: August 13, 2003, at 11 a.m.

PLACE: Room 101, 500 E Street SW., Washington, DC 20436, Telephone: (202) 205-2000.

STATUS: Open to the public.

MATTERS TO BE CONSIDERED: 1. Agenda for future meetings: None.

2. Minutes.

3. Ratification List.

4. Inv. No. 731-TA-1047 (Preliminary) (Ironing Tables and Certain Parts Thereof from China)—briefing and vote. (The Commission is currently scheduled to transmit its determination to the Secretary of Commerce on or before August 14, 2003; Commissioners' opinions are currently scheduled to be transmitted to the Secretary of Commerce on or before August 21, 2003.)

5. Outstanding action jackets: None.

In accordance with Commission policy, subject matter listed above, not disposed of at the scheduled meeting, may be carried over to the agenda of the following meeting.

By order of the Commission.
Issued: August 4, 2003.
Marilyn R. Abbott,
Secretary to the Commission.

[FR Doc. 03-20203 Filed 8-4-03; 2:27 pm]

BILLING CODE 7020-02-P